DEPARTMENT OF THE INTERIOR

Geological Survey

[GR22RB00TU77E00; OMB Control Number 1028-NEW]

Agency Information Collection Activities; Values Mapping for Planning in Regional Ecosystems (VaMPIRE) Public Participatory GIS Mapping Application

AGENCY: Interior.

ACTION: Notice of Information Collection; request for comment.

SUMMARY: In accordance with the Paperwork Reduction Act of 1995 (PRA), the U.S. Geological Survey (USGS) is proposing a new information collection.

DATES: Interested persons are invited to submit comments on or before June 27, 2022.

ADDRESSES: Send your comments on this information collection request (ICR) by mail to U.S. Geological Survey, Information Collections Officer, 12201 Sunrise Valley Drive MS 159, Reston, VA 20192; or by email to gs-info_collections@usgs.gov. Please reference OMB Control Number 1028-NEW in the subject line of your comments.

FOR FURTHER INFORMATION CONTACT: To request additional information about this ICR, contact Rudy Schuster by email at schusterr@usgs.gov, or by telephone at 970-226-9165. Individuals in the United States who are deaf, deafblind, hard of hearing, or have a speech disability may dial 711 (TTY, TDD, or TeleBraille) to access telecommunications relay services. Individuals outside the United States should use the relay services offered within their country to make international calls to the point-of-contact in the United States. You may also view the ICR at http://www.reginfo.gov/public/do/PRAMain.

SUPPLEMENTARY INFORMATION: In accordance with the PRA and 5 CFR 1320.8(d)(1), all information collections require approval under the PRA. We may not conduct or sponsor, nor are you required to respond to, a collection of information unless it displays a currently valid OMB control number.

As part of our continuing effort to reduce paperwork and respondent burdens, we invite the public and other Federal agencies to comment on new, proposed, revised, and continuing collections of information. This helps us assess the impact of our information collection requirements and minimize the public's reporting burden. It also helps the public understand our information collection requirements and provide the requested data in the desired format.

We are especially interested in public comment addressing the following:

(1) Is this collection necessary for the proper performance of the functions of the agency, including whether or not the information will have practical utility;

(2) The accuracy of our estimate of the burden for this collection of information, including the validity of the methodology and assumptions used;

(3) Ways to enhance the quality, utility, and clarity of the information to be collected; and

(4) How might the USGS minimize the burden of the collection of information on those who are to respond, including through the use of appropriate automated, electronic, mechanical, or other technological collection techniques or other forms of information technology, e.g., permitting electronic submission of response.

Comments that you submit in response to this notice are a matter of public record. We will include or summarize each comment in our request to OMB to approve this ICR. Before including your address, phone number, email address, or other personally identifiable information (PII) in your comment, you should be aware that your entire comment—including your PII—may be made publicly available at any time. While you can ask us in your comment to withhold your PII from public review, we cannot guarantee that we will be able to do so.

Abstract: The USGS developed a Public Participatory GIS (PPGIS) mapping application to aid in gathering information from Bureau of Land Management (BLM) visitors about their values for public lands and waters for consideration during Federal planning, permitting, and management efforts. This tool is called the Values Mapping for Planning in Regional Ecosystems (VaMPIRE) PPGIS application. VaMPIRE is a partnership with the BLM and is designed to gather spatially referenced data on the values people attach to places and the activities they do on BLM lands. The spatially referenced data can be used to identify landscape values; how proposed management actions might affect use and value; where potential conflicts might occur; and high-performing areas where multiple values can co-exist. The mapping application incorporates a survey designed to assess behavioral changes by the public based on land use and explores if visitors would change locations, activities, or frequency of visits given possible land-use change scenarios. VaMPIRE also identifies if there is an overall change in the value received from public lands under specified management changes. Data will be collected entirely online by emailing a link to the application and survey to visitors who reserved BLM campgrounds or permits in certain locations where this data would be of interest for planning and management.

Title of Collection: Public Participatory GIS mapping application and visitor survey.

OMB Control Number: 1028-NEW.

Form Number: None.

Type of Review: New.

Respondents/Affected Public: Individuals (Visitors to Bureau of Land Management lands).

Total Estimated Number of Annual Respondents: 770.

Total Estimated Number of Annual Responses: 770.

Estimated Completion Time per Response: 15 minutes on average.

Total Estimated Number of Annual Burden Hours: 192 hours.

Respondent's Obligation: Voluntary.

Frequency of Collection: Respondents will provide information one time.

Total Estimated Annual Nonhour Burden Cost: None.

An agency may not conduct or sponsor, nor is a person required to respond to, a collection of information unless it displays a currently valid OMB control number.

The authority for this action is the Paperwork Reduction Act of 1995 (44 U.S.C. 3501 et seq.).

Adrienne Bartlewitz,
Rocky Mountain Region Chief of Staff, U.S. Geological Survey.

[FR Doc. 2022-09101 Filed 4-27-22; 8:45 am]

BILLING CODE 4338-11-P